DEPARTMENT OF ENERGY

Federal Energy Regulatory Commission

Combined Notice of Filings #1

Take notice that the Commission received the following electric rate filings:

Docket Numbers: ER13-1895-001.

Applicants: Midcontinent Independent System Operator, Inc.

Description: 07-04-2013 CFTC Amendment Filing to be effective 9/2/2013.

Filed Date: 7/5/13.

Accession Number: 20130705-5000.

Comments Due: 5 p.m. e.t. 7/26/13.

Docket Numbers: ER13-1891-000.

Applicants: Twin Buttes Wind LLC, Pacific Wind Development, LLC, Colorado Green Holdings LLC.

Description: Feeder Line Ownership Agreement to be effective 7/4/2013.

Filed Date: 7/3/13.

Accession Number: 20130703-5109.

Comments Due: 5 p.m. e.t. 7/24/13.

Docket Numbers: ER13-1892-000.

Applicants: Pacific Wind Development, LLC.

Description: Feeder Line Ownership Agreement to be effective 7/4/2013.

Filed Date: 7/3/13.

Accession Number: 20130703-5112.

Comments Due: 5 p.m. e.t. 7/24/13.

Docket Numbers: ER13-1893-000.

Applicants: Twin Buttes Wind LLC.

Description: Feeder Line Ownership Agreement to be effective 7/4/2013.

Filed Date: 7/3/13.

Accession Number: 20130703-5113.

Comments Due: 5 p.m. e.t. 7/24/13.

Docket Numbers: ER13-1894-000.

Applicants: Southern California Edison Company.

Description: Amended Serv Agmt with San Gorgonio Farms for Devers-Mirage Project to be effective 6/1/2013.

Filed Date: 7/3/13.

Accession Number: 20130703-5125.

Comments Due: 5 p.m. e.t. 7/24/13.

Docket Numbers: ER13-1895-000.

Applicants: Midcontinent Independent System Operator, Inc.

Description: 07-03-2013 CFTC Filing to be effective 9/2/2013.

Filed Date: 7/3/13.

Accession Number: 20130703-5143.

Comments Due: 5 p.m. e.t. 7/24/13.

Docket Numbers: ER13-1896-000.

Applicants: AEP Generation Resources Inc.

Description: Application of AEP Generation Resources Inc. for Market-Based Rate Authority to be effective 1/1/2014.

Filed Date: 7/5/13.

Accession Number: 20130705-5033.

Comments Due: 5 p.m. e.t. 7/26/13.

Docket Numbers: ER13-1897-000.

Applicants: SWG Arapahoe, LLC.

Description: Notice of Succession to be effective 7/6/2013.

Filed Date: 7/5/13.

Accession Number: 20130705-5038.

Comments Due: 5 p.m. e.t. 7/26/13.

Docket Numbers: ER13-1898-000.

Applicants: ITC Midwest LLC.

Description: Filing of Joint Use Pole Agreement with Grundy County to be effective 9/4/2013.

Filed Date: 7/5/13.

Accession Number: 20130705-5042.

Comments Due: 5 p.m. e.t. 7/26/13.

Docket Numbers: ER13-1899-000.

Applicants: Southern California Edison Company.

Description: IFA and Distribution Service Agreement with Dillon Wind to be effective 6/1/2013.

Filed Date: 7/5/13.

Accession Number: 20130705-5065.

Comments Due: 5 p.m. e.t. 7/26/13.

Docket Numbers: ER13-1900-000.

Applicants: Southern California Edison Company.

Description: IFA and Distribution Service Agreement with Wildflower Energy to be effective 6/1/2013.

Filed Date: 7/5/13.

Accession Number: 20130705-5075.

Comments Due: 5 p.m. e.t. 7/26/13.

The filings are accessible in the Commission's eLibrary system by clicking on the links or querying the Docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2013.
Nathaniel J. Davis, Sr.,
Deputy Secretary.

[FR Doc. 2013-16833 Filed 7-12-13; 8:45 am]

BILLING CODE 6717-01-P